DEPARTMENT OF VETERANS AFFAIRS

AR27—Notice of Request for Information on the Department of Veterans Affairs' Eligibility Considerations for the Veterans Cemetery Grants Program

AGENCY: Department of Veterans Affairs.

ACTION: Request for information.

SUMMARY: State and Tribal veterans' cemetery grant applicants that seek to participate in the Department of Veterans Affairs (VA) Veterans Cemetery Grants Program (VCGP) must, to qualify for a grant, solely inter and memorialize eligible persons, which includes Veterans and certain family members. Through this request for information, VA seeks comments to help inform VA's understanding of issues affecting States and Tribal Organizations in meeting burial and other needs of their National Guard and Reservist populations with respect to burial in VA grant-funded cemeteries.

DATES: Comments are due by August 30, 2021.

ADDRESSES: Comments must be submitted through www.Regulations.gov and will be available for public viewing, inspection or copies.

FOR FURTHER INFORMATION CONTACT: George Eisenbach, Director, Veterans Cemetery Grants Program, National Cemetery Administration (40), Department of Veterans Affairs, 810 Vermont Avenue NW, Washington, DC 20420, (202) 632-7369 (this is not a toll-free telephone number).

SUPPLEMENTARY INFORMATION: VA seeks stakeholder input to improve our understanding of issues impacting States and Tribal Organizations (as those terms are defined in 38 CFR 39.2) in serving their National Guard servicemembers and Reservists. The Secretary seeks information on the questions listed below. Commenters do not need to address each question and should focus on those that relate to their expertise or perspectives. To the extent possible, please clearly indicate which questions you address in your response. We are particularly interested in feedback from States and Tribal Organizations that are participating in VCGP or that are contemplating participation.

Currently for VCGP purposes, a State or Tribal veterans cemetery must be operated solely for the interment of Veterans, their spouses, surviving spouses, minor children, unmarried adult children who were physically or mentally disabled and incapable of self-support, and eligible parents of certain deceased service members, as set out in section 38 CFR 39.10(a). We seek input on the below questions:

Should VCGP cemeteries be able to inter non-Veteran members of the Reserve components of the U.S. Armed Forces (including members of the Army and Air National Guard of the United States) who otherwise would not be eligible for burial in a VA national cemetery, as well as their spouses and certain dependents? Why or why not?

If VCGP cemeteries were permitted to inter these individuals, are there any conditions that should be met or certain ways that VA should administer this extension to the program? For example, should grantees pay costs associated with cemetery development, interment, and memorialization relating to the non-Veteran decedents referenced above?

Again, we welcome your feedback on these questions.

Paperwork Reduction Act

This request for information constitutes a general solicitation of public comments as described in the implementing regulations of the Paperwork Reduction Act of 1995 at 5 CFR 1320.3(h)(4). Therefore, this request for information does not constitute an information collection under the Paperwork Reduction Act of 1995 and does not impose any information collection requirements. Consequently, there is no need for review by the Office of Management and Budget under the authority of the Paperwork Reduction Act of 1995 (44 U.S.C. 3501 et seq.).

Signing Authority

Denis McDonough, Secretary of Veterans Affairs approved this document on July 15, 2021 and authorized the undersigned to sign and submit the document to the Office of the Federal Register for publication electronically as an official document of the Department of Veterans Affairs.

Luvenia Potts,
Regulations Development Coordinator, Office of Regulation Policy & Management, Office of General Counsel, Department of Veterans Affairs.

[FR Doc. 2021-16291 Filed 7-29-21; 8:45 am]

BILLING CODE 8320-01-P